DEPARTMENT OF ENERGY

Federal Energy Regulatory Commission

[Docket No. EL14-94-000]

PJM Interconnection, L.L.C.; Notice of Institution of Section 206 Proceeding and Refund Effective Date

On August 25, 2014, the Commission issued an order in Docket No. EL14-94-000, pursuant to section 206 of the Federal Power Act (FPA), 16 U.S.C. 824e (2012), instituting an investigation into whether the provisions for calculating Projected PJM Market Revenues in the determination of Market Seller Offer Caps within PJM Interconnection, L.L.C.'s Open Access Transmission Tariff has become unjustness and unreasonable. PJM Interconnection, L.L.C., 148 FERC ¶ 61,140 (2014).

The refund effective date in Docket No. EL14-94-000, established pursuant to section 206(b) of the FPA, will be the date of publication of this notice in the Federal Register.

Dated: August 27, 2014.
Nathaniel J. Davis, Sr.,
Deputy Secretary.

[FR Doc. 2014-20970 Filed 9-3-14; 8:45 am]

BILLING CODE 6717-01-P